COMMODITY FUTURES TRADING COMMISSION

Agency Information Collection Activities Under OMB Review

AGENCY: Commodity Futures Trading Commission.

ACTION: Notice.

SUMMARY: In compliance with the Paperwork Reduction Act (44 U.S.C. 3501 et seq.), this notice announces that the Information Collection Request (ICR) abstracted below has been forwarded to the Office of Management and Budget (OMB) for review and comment. The ICR describes the nature of the information collection and its expected costs and burden; it includes the actual data collection instruments (if any).

DATES: Comments must be submitted on or before August 17, 2005.

FOR FURTHER INFORMATION CONTACT: Lawrence B. Patent, Division of Clearing and Intermediary Oversight, U.S. Commodity Futures Trading Commission, 1155 21st Street, NW., Washington, DC 20581, (202) 418-5439; Fax: (202) 418-5536; e-mail: Ipatent@cftc.gov and refer to OMB Control No. 3038-0021.

SUPPLEMENTARY INFORMATION: Title: Regulations Governing Bankruptcies of Commodity Brokers (OMB Control No. 3038-0021). This is a request for extension of a currently approved information collection.

Abstract: Regulations Governing Bankruptcies of Commodity Brokers, OMB Control No. 3038-0021—Extension.

The information collected pursuant to part 190 of the Commission's regulations under the Commodity Exchange Act (Act) is intended to protect, to the extent possible, the property of the public in the case of the bankruptcy of a commodity brokers. These rules are promulgated pursuant to the Commission's rulemaking authority contained in sections 4a(a), 4i, and 8a(5) of the Act, 7 U.S.C. 6a(1), 6i, and 12a(5).

An agency may not conduct or sponsor, and a person is not required to respond to, a collection of information unless it displays a currently valid OMB control number. The OMB control numbers for the CFTC's regulations were published on December 30, 1981. See 46 FR 63035 (Dec. 30, 1981). The Federal Register notice with a 60-day comment period soliciting comments on this collection of information was published on May 3, 2005 (70 FR 22853).

Burden statement: The respondent burden for this collection is estimated to average .05 hours per response.

Respondents affected entities: 376.

Estimated number of responses: 6,173.

Estimated total annual burden on respondents: .05 hours.

Frequency of collection: On occasion.

Send comments regarding the burden estimated or any other aspect of the information collection, including suggestions for reducing the burden, to the addresses listed below. Please refer to OMB Control No. 3038-0021 in any correspondence.

Lawrence B. Patent, Division of Clearing and Intermediary Oversight, Commodity Futures Trading Commission, 1155 21st Street, NW., Washington, DC 20581; and

Office of Information and Regulatory Affairs, Office of Management and Budget, Attention: Desk Officer for CFTC, 725 17th Street, Washington, DC 20503.

Dated: July 12, 2005.
Jean A. Webb,
Secretary of the Commission.

[FR Doc. 05-14063 Filed 7-15-05; 8:45 am]

BILLING CODE 6351-01-M